NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 20, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, National Geospatial-Intelligence Agency (N1-537-09-1, 2 items, 2 temporary items). Records relating to the designation of contracting officers and contracting officer's technical representatives.

2. Department of Homeland Security, National Protection and Programs Directorate (N1-563-08-31, 12 items, 9 temporary items). Incident reports not related to catastrophic events, working papers associated with the development of National Infrastructure Protection Plans and Sector-Specific Plans, special events and exercises files, technology transition agreements, and vulnerability assessment reports and project files. Proposed for permanent retention are pre-event incident reports, catastrophic event incident reports, National Infrastructure Protection Plans, and Sector-Specific Plans.

3. Department of Homeland Security, National Protection and Programs Directorate (N1-563-08-36, 7 items, 7 temporary items). Voluntary submissions of Critical Infrastructure Information received by the agency which meet the requirements for protection contained in Section 214 of the Homeland Security Protection Act of 2002. Also included is electronic workflow and processing information for all submissions, including those that do not meet protected critical infrastructure information requirements.

4. Department of Homeland Security, U.S. Citizenship and Immigration Services (N1-566-09-3, 1 item, 1 temporary item). Master files of an electronic information system that tracks the status and results of fingerprint checks of aliens that are submitted to the Federal Bureau of Investigation.

5. Department of the Interior, National Business Center (N1-48-08-4, 11 items, 11 temporary items). Electronic records relating to such payroll processes as benefits, debt management, accounting, and tax withholding.

6. Department of the Interior, National Business Center (N1-48-08-7, 1 item, 1 temporary item). Electronic records contained in the Wildland Fire Safety and Health Reporting System, which contains data relating to fire safety and health issues received from the Federal firefighting community.

7. Department of the Interior, National Business Center (N1-48-08-19, 1 item, 1 temporary item). Electronic records contained in the National Fire Plan Operations and Reporting System, an inter-agency system used to manage the National Fire Plan. These records are duplicative of records maintained by the Office of Wildland Fire Coordination.

8. Department of the Interior, National Business Center (N1-48-09-2, 1 item, 1 temporary item). Master files of an electronic information system used to track aviation training.

9. Department of the Interior, Bureau of Land Management (N1-49-09-1, 1 item, 1 temporary item). Construction drawings, assembly diagrams, operation manuals, and other records that relate to equipment development projects for fire engines and other equipment used in firefighting.

10. Department of the Interior, Bureau of Reclamation (N1-115-09-1, 1 item, 1 temporary item). Master files associated with an electronic information system used for programming and budgeting for agency projects and activities.

11. Department of the Interior, Bureau of Reclamation (N1-115-09-2, 1 item, 1 temporary item). Master files associated with an electronic information system used for managing time and attendance of agency employees.

12. Department of the Interior, Bureau of Reclamation (N1-115-09-3, 1 item, 1 temporary item). Master files associated with an electronic information system used for managing Government-owned or leased assets other than real property.

13. Department of the Interior, National Park Service (N1-79-08-8, 5 items, 3 temporary items). Records relating to information and public image management, including such matters as library management, publications, and systems development. High level policy records and publications that relate to the agency's mission are proposed for permanent retention.

14. Joint Staff, Office of the Chairman (N1-218-09-3, 1 item, 1 temporary item). Master files of an electronic information system that contains force structure data, including information concerning facilities, readiness, and weapons.

15. Department of Justice, Executive Office for Immigration Review (N1-60-09-6, 2 items, 1 temporary item). Case files relating to complaints against immigration judges. Proposed for permanent retention is an electronic information system that tracks complaints and the final actions taken.

16. Department of Justice, National Drug Intelligence Center (N1-523-09-1, 2 items, 2 temporary items). Records of the digital evidence laboratory, including case files and derivative evidence documenting the examination of seized media and data.

17. Department of the Navy, Naval Criminal Investigative Service (N1-NU-09-1, 1 item, 1 temporary item). Profiles consisting of criminal investigative data derived from the Department of the Navy Criminal Justice Information System. This system contains records relating to investigations of criminal matters and related judicial and administrative actions, which are covered by multiple items in previously approved schedules.

18. Department of the Navy, Naval Criminal Investigative Service (N1-NU-09-2, 5 items, 5 temporary items). Short term copies of records relating to criminal and law enforcement investigations, including such records as copies of polygraph records, copies of investigative records, copies of records filed by ship, installation, or subject, and copies of investigative reports. Longer term copies of these records are filed separately.

19. Department of Transportation, Federal Highway Administration (N1-406-08-7, 6 items, 3 temporary items). Web copies of records derived from the National Bridge Inventory System and data tables and graphs used for reporting to Congress. Proposed for permanent retention are master files of the National Bridge Inventory System, unit cost data relating to bridge construction, and reports on bridge construction.

20. Department of Transportation, Federal Highway Administration (N1-406-09-1, 4 items, 3 temporary items). Records of the Office of Federal Lands Highway, including such records as administrative files, files relating to specific programs and projects, and emergency relief program files. Subject files relating to the Office's policies and procedures are proposed for permanent retention.

21. Department of Transportation, Federal Highway Administration (N1-406-09-4, 23 items, 17 temporary items). Records of the Office of Operations, including such records as administrative files, continuity of operations plans, legislative files, working papers, status and progress reports, training materials, and traffic control subject files. Proposed for permanent retention are such records as traffic control devices rulemaking files, rulemaking records relating to work zone safety, and size and weight reports and publications.

22. Barry M. Goldwater Scholarship and Excellence in Education Foundation, Agency-wide (N1-508-09-1, 1 item, 1 temporary item). Case files on students who are awarded scholarships, including such records as applications, nominations, and payment requests.

23. Environmental Protection Agency, Headquarters (N1-412-09-3, 1 item, 1 temporary item). Master files of an electronic information system that enables Federal and non-Federal regulatory agencies to order audit samples for compliance testing and report the results.

24. Environmental Protection Agency, Headquarters (N1-412-09-4, 2 items, 2 temporary items). Master files of an electronic information system that supports the registration of fuel and fuel additives and includes compliance data related to fuels and additives.

25. Environmental Protection Agency, Office of International Affairs (N1-412-07-66, 30 items, 17 temporary items). This schedule authorizes the agency to apply the existing disposition instruction to records regardless of recordkeeping medium. Records consisting primarily of administrative files or containing duplicative data from the State Department. The records cover such topics as the United Nations Environmental Program, special foreign currency, bilateral programs, reimbursable technical assistance, U.S. and Russia environmental agreement, laws of the sea and deep seabed mining, ocean dumping, oil pollution, Organization for Economic Cooperation and Development, World Health Organization, U.S. and Canadian relations, U.S. and Mexican relations, and international travel. Paper recordkeeping copies of these files were previously approved for disposal. Proposed for permanent retention are agreements, other formally issued documents, position papers, reports, pilot studies, and other significant documents relating to such matters as the U.S. and Russia environmental agreement, laws of the sea and deep seabed mining, oil pollution, NATO Committee on the Challenges of Modern Society, U.S. and Canadian relations, and the U.S. and Mexican relations, for which paper recordkeeping copies previously were approved as permanent.

26. Equal Employment Opportunity Commission, Agency-wide (N1-403-08-2, 9 items, 3 temporary items). Copies of correspondence received by the Chairman and forwarded to other offices for reply, chronological files, and routine appeals case files of the Office of Federal Operations. Proposed for permanent retention are such records as agendas, transcripts, and recordings of Commission meetings, Commission decision files, and significant appeals case files.

27. Federal Open Market Committee, Secretariat (N1-82-09-1, 8 items, 4 temporary items). Ad hoc trial-run records created when the Federal Open Market Committee experiments with economic projection processes. Included are individual submissions and related summaries and compilations. Records relating to projections that are adopted and used are proposed for permanent retention.

28. National Archives and Records Administration, Office of Records Services—Washington, D.C. (N1-64-09-1, 1 item, 1 temporary item). Records relating to agency activities to assist other Federal agencies and non-Federal governmental entities in protecting and preserving records in the event of emergencies and natural disasters.

29. National Archives and Records Administration, Office of the Archivist (N1-64-09-2, 1 item, 1 temporary item). Petitions sent to the Archivist of the United States requesting expedited release of certain Hillary Clinton White House documents. A sample of 36 petitions will be retained permanently in accordance with a previously approved schedule.

30. Pension Benefit Guaranty Corporation, Agency-wide (N1-465-09-1, 17 items, 15 temporary items). Records relating to such matters as budget and finance, communications, legal affairs, public and congressional relations, administrative issuances and policies, regulations, security, and personnel management. Proposed for permanent retention are historical administrative records, which include such files as significant legal opinions, regulations, and litigation cases, and historical policy records, which include such files as reports to the President and Congress, research files, directives and operating manuals, investment policy files, and organizational records.

Dated: April 10, 2009.
Michael J. Kurtz,
Assistant Archivist for Records Services—Washington, DC.

[FR Doc. E9-8987 Filed 4-17-09; 8:45 am]

BILLING CODE 7515-01-P